INTERNATIONAL TRADE COMMISSION

[Investigation No. 337-TA-885]

Certain Portable Electronic Communications Devices, Including Mobile Phones and Components Thereof; Commission Determination Not To Review n Initial Determination Granting Google, Inc.'s Unopposed Motion To Intervene

AGENCY: U.S. International Trade Commission.

ACTION: Notice.

SUMMARY: Notice is hereby given that the U.S. International Trade Commission has determined not to review an initial determination (“ID”) (Order No. 5) of the presiding administrative law judge (“ALJ”) granting Google, Inc.'s unopposed motion to intervene.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, 19 U.S.C. 1337, on June 26, 2013, based on a complaint filed by Nokia Corporation of Espoo, Finland and Nokia Inc., of Sunnyvale, California (collectively, “Nokia”). The complaint, as supplemented, alleges a violation of section 337 by reason of infringement of certain claims of U.S. Patent Nos. 6,035,189 (“the `189 patent”); 6,373,345; 6,711,211 (“the `211 patent”); 7,187,945; 8,140,650 (“the `650 patent”); and 8,363,824. 78 FR 38362 (Jun. 26, 2013). The respondents are HTC Corporation of Taoyuan City, Taiwan, and HTC America, Inc. of Bellevue, Washington (collectively, “HTC”).

On July 11, 2013, third party Google Inc. (“Google”) filed a motion to intervene as a party in this investigation with respect to three of the six patents, namely the `189, `211 and `650 patents. The motion states that neither complainants Nokia nor respondents HTC oppose the motion.

On July 16, 2013, the ALJ issued an ID (Order No. 5) granting Google's motion. The ALJ found, inter alia, that the motion was timely filed and that Google has shown that it has a substantial interest in the investigation. No party petitioned for review. The Commission has determined not to review the ID.

The authority for the Commission's determination is contained in section 337 of the Tariff Act of 1930, as amended (19 U.S.C. 1337), and in sections 210.42-.46 of the Commission's Rules of Practice and Procedure (19 CFR 210.42-.46).

Issued: August 12, 2013.
By order of the Commission.
Lisa R. Barton,
Acting Secretary to the Commission.

[FR Doc. 2013-19825 Filed 8-14-13; 8:45 am]

BILLING CODE 7020-02-P